DEPARTMENT OF TRANSPORTATION

Federal Aviation Administration

Notice of Intent To Rule on Application 05-04-C-00-LYH To Impose and Use the Revenue From a Passenger Facility Charge (PFC) at Lynchburg Regional Airport, Lynchburg, VA

AGENCY: Federal Aviation Administration (FAA), DOT.

ACTION: Notice of intent to rule on application.

SUMMARY: The FAA proposes to rule and invites public comment on the application to impose and use the revenue from a PFC at Lynchburg Regional Airport (LYH) under the provisions of the 49 U.S.C. 40117 and part 158 of the Federal Aviation Regulations (14 CFR part 158).

DATES: Comments must be received on or before February 14, 2005.

ADDRESSES: Comments on this application may be mailed or delivered in triplicate to the FAA at the following address: Washington Airports District Office, 23723 Air Freight Lane, Suite 210, Dulles, Virginia 20166.

In addition, one copy of any comments submitted to the FAA must be mailed or delivered to Mr. Mark Courtney, Airport Director, Lynchburg Regional Airport of the City of Lynchburg at the following address: City of Lynchburg, Lynchburg Regional Airport, 4308 Wards Road, Lynchburg, Virginia 24502.

Air carriers and foreign air carriers may submit copies of written comments previously provided to the public agency full name under section 158.23 of part 158.

FOR FURTHER INFORMATION CONTACT: Mr. Terry J. Page, Manager, Washington Airports District Office, 23723 Air Freight Lane, Suite 210, Dulles, Virginia 20166, Telephone: 703-661-1354. The application may be reviewed in person at this same location.

SUPPLEMENTARY INFORMATION: The FAA proposes to rule and invites pubic comment on the application to impose and use the revenue from a PFC at Lynchburg Regional Airport under the provisions of the 49 U.S.C. 40117 and part 158 of the Federal Aviation Regulations (14 CFR part 158). On January 6, 2005, the FAA determined that the application to impose and use the revenue from a PFC submitted by City of Lynchburg was substantially complete within the requirements of section 158.25 of part 158. The FAA will approve or disapprove the application, in whole or in part, no later than April 6, 2005.

The following is a brief overview of the application.

Proposed Charge Effective Date: June 1, 2005.

Proposed Charge Expiration Date: June 1, 2015.

Level of the Proposed PFC: $4.50.

Total Estimated PFC Revenue: $2,650,559.

Brief Description of Proposed Project(s): Reimbursement of PFC Development, Administration Costs, and Debt Service. Runway 4-22 Extension (Phase IV Construction). Passenger Loading Bridge. Rehabilitation of Hanger 7 and 8 Ramp.

Level of the Proposed PFC: $4.50.

Any person may inspect the application in person at the FAA office listed above under FOR FURTHER INFORMATION CONTACT and at the FAA Regional Airports office located at: Federal Aviation Administration, Eastern Region, 1 Aviation Plaza, Jamaica, New York 11434-4809.

In addition, any person may, upon request, inspect the application, notice and other documents germane to the application in person at the City of Lynchburg.

Issued in Dulles, Virginia, on January 7, 2005.
Terry J. Page,
Manager, Washington Airports District Office, Eastern Region.

[FR Doc. 05-854 Filed 1-13-05; 8:45 am]

BILLING CODE 4910-13-M